DEPARTMENT OF ENERGY

Federal Energy Regulatory Commission

[Docket No. CP13-76-000]

Southern Star Central Gas Pipeline, Inc.; Notice of Request Under Blanket Authorization

Take notice that on February 11, 2013, Southern Star Central Gas Pipeline, Inc. (Southern Star), 4700 Highway 56, P.O. Box 20010, Owensboro, Kentucky 42304-0010, filed in Docket No. CP13-76-000, a prior notice request pursuant to sections 157.203, 157.205, 157.208, and 157.213 of the Commission's regulations under the Natural Gas Act (NGA), seeking authorization to install a storage gas recovery system at its Alden Storage Field in Rice County, Kansas, all as more fully set forth in the application which is on file with the Commission and open for public inspection.

Specifically, Southern Star proposes to construct a new compressor site gas and storage gas recovery laterals in order to reclaim storage gas that has migrated vertically and to prevent further migration. The gas recovery laterals will be installed pursuant to the automatic provisions of Southern Star's blanket certificate authorized in Docket No. CP82-479. The estimated cost of the proposed facilities is $3,522,000.

Any questions regarding the applications should be directed to David N. Roberts, Staff Analyst, Regulatory Compliance, Southern Star Central Gas Pipeline, Inc., 4700 Highway 56, Owensboro, Kentucky 42301 or call 270-852-4654.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Persons who wish to comment only on the environmental review of this project should submit an original and two copies of their comments to the Secretary of the Commission. Environmental commenter's will be placed on the Commission's environmental mailing list, will receive copies of the environmental documents, and will be notified of meetings associated with he Commission's environmental review process. Environmental commenter's will not be required to serve copies of filed documents on all other parties. However, the non-party commentary, will not receive copies of all documents filed by other parties or issued by the Commission (except for the mailing of environmental documents issued by the Commission) and will not have the right to seek court review of the Commission's final order.

The Commission strongly encourages electronic filings of comments, protests, and interventions via the Internet in lieu of paper. See 18 CFR 385.2001(a)(1)(iii) and the instructions on the Commission's Web site (www.ferc.gov) under the “e-Filing” link. Persons unable to file electronically should submit an original and 14 copies of the protest or intervention to the Federal Energy Regulatory Commission, 888 First Street NE., Washington, DC 20426.

Dated: February 21, 2013.
Kimberly D. Bose,
Secretary.

[FR Doc. 2013-04663 Filed 2-27-13; 8:45 am]

BILLING CODE 6717-01-P